ENVIRONMENTAL PROTECTION AGENCY

[FRL-9198-8]

National Drinking Water Advisory Council's Climate Ready Water Utilities Working Group Meeting Announcement

AGENCY: Environmental Protection Agency (EPA).

ACTION: Notice.

SUMMARY: The Environmental Protection Agency (EPA or Agency) is announcing the fifth and final in-person meeting of the Climate Ready Water Utilities (CRWU) Working Group of the National Drinking Water Advisory Council (NDWAC). The purpose of this meeting is to review and discuss final changes to the Working Group's report and finalize the document.

DATES: The fifth in-person CRWU Working Group meeting will take place on September 23, 2010, from 9 a.m. to 5:30 p.m., Eastern Daylight Time (EDT) and on September 24, 2010, from 8:30 a.m. to 1 p.m., EDT.

ADDRESSES: The meeting will take place at the Hilton Alexandria Old Town, which is located at 1767 King Street, Alexandria, Virginia 22314, in Salon A.

FOR FURTHER INFORMATION CONTACT: Interested participants from the public should contact Lauren Wisniewski, Designated Federal Officer, U.S. Environmental Protection Agency, Office of Ground Water and Drinking Water, Water Security Division (Mail Code 4608T), 1200 Pennsylvania Avenue, NW., Washington, DC 20460. Please contact Lauren Wisniewski at wisniewski.lauren@epa.gov or call 202-564-2918. CRWU Working Group meeting agendas and summaries are available at: http://www.water.epa.gov/aboutow/ogwdw/ndwac/index.cfm#current.

SUPPLEMENTARY INFORMATION: Agenda: At previous meetings, the CRWU Working Group developed a draft Report to the National Drinking Water Advisory Council that addresses the Working Group's charge. The report includes an executive summary and sections on findings, recommendations, an adaptive response framework, needed resources, and incentives. In this meeting, the Working Group will discuss any final changes to the report and aim to finalize the document by the conclusion of the meeting. If time permits, there may also be a few presentations on related inter-agency climate efforts. To obtain a copy of the draft report or other meeting materials, please e-mail Lauren Wisniewski at wisniewski.lauren@epa.gov.

Public Participation: There will be an opportunity for public comment during the CRWU Working Group meeting. Oral statements will be limited to five (5) minutes, and it is preferred that only one person present the statement on behalf of a group or organization. Any person who wishes to file a written statement can do so before or after the CRWU Working Group meeting. Written statements received prior to the meeting will be distributed to all members of the Working Group before any final discussion or vote is completed. Any statements received after the meeting will become part of the permanent meeting file and will be forwarded to the CRWU Working Group members for their information. For information on access or services for individuals with disabilities, please contact Lauren Wisniewski at 202-564-2918 or by e-mail at wisniewski.lauren@epa.gov. To request accommodation of a disability, please contact Lauren Wisniewski, preferably, at least 10 days prior to the meeting to give EPA as much time as possible to process your request.

Dated: September 2, 2010.
Cynthia C. Dougherty,
Director, Office of Ground Water and Drinking Water.

[FR Doc. 2010-22463 Filed 9-8-10; 8:45 am]

BILLING CODE 6560-50-P